NATIONAL SCIENCE FOUNDATION

Notice of Meeting

Agency Holding Meeting: National Science Board.

Date and Time: November 22, 2005, 1 p.m.-2 p.m. (ET)

Place: National Science Foundation, 4201 Wilson Boulevard, Arlington, VA 22230, Public Meeting Room 120.

Status: This meeting will be open to the public.

Matters to be Considered: Tuesday, November 22, 2005, Open Session

Open Session (1-2 p.m.)

Discussion of draft NSB report, National Science Board 2020 Vision for the National Science Foundation (NSB-05-142), http://www.nsf.gov/nsb/documents/2005/nsb05142/cover_letter.pdf.

FOR FURTHER INFORMATION CONTACT: Dr. Michael P. Crosby, Executive Officer and NSB Office Director. (703) 292-7000. http://www.nsf.gov/nsb.

Michael P. Crosby,
Executive Officer and NSB Office Director.

[FR Doc. 05-22705 Filed 11-15-05; 8:45 am]

BILLING CODE 7555-01-M